ENVIRONMENTAL PROTECTION AGENCY

40 CFR Part 300

[FRL-7007-2]

National Oil and Hazardous Substances Pollution Contingency Plan; National Priorities List

AGENCY: Environmental Protection Agency (EPA).

ACTION: Proposed deletion of the Red Penn Landfill Site from the National Priorities List (NPL).

SUMMARY: The EPA proposes to delete the Kentucky Red Penn Landfill Site (site) from the NPL and requests public comment on this action. The NPL constitutes appendix B to Part 300 of the National and Hazardous Substances Pollution Contingency Plan (NCP), which EPA promulgated pursuant to Section 105 of the Comprehensive Environmental Response, Compensation, and Liability Act of 1980 (CERCLA), as amended. The EPA has determined that the site poses no significant threat to public health or the environment, as defined by CERCLA, and therefore, no further remedial measures pursuant to CERCLA are warranted.

We are publishing this proposal concurently with the final rule because the EPA does not anticipate dissenting comments on the deletion. A detailed rationale for the deletion is set forth in the direct final rule. If no dissenting comments are received, no further EPA activity is contemplated. If EPA receives dissenting comments, the direct final action will be withdrawn and all public comments received will be addressed in a subsequent final rule. The EPA will not institute a second comment period. Any parties interested in commenting should do so at this time.

DATES: Comments concerning this action must be received by August 15, 2001.

ADDRESSES: Comments may be mailed to Femi Akindele, Project Manager, U.S. Environmental Protection Agency, Region 4, 61 Forsyth Street, SW., Atlanta, GA 30303. Comprehensive information on this site is available through the public docket which is available for viewing at the site information repositories at the following locations: U.S. EPA Region 4,61 Forsyth Street, SW., Atlanta, GA 30303; and the South Oldham Library, 6720 W. Highway 146, Crestwood, Kentucky 40014, telephone number (502) 241-1108.

FOR FURTHER INFORMATION CONTACT: Femi Akindele, Project Manager, U.S. Environmental Protection Agency, Region 4, 61 Forsyth Street, SW., Atlanta, GA 30303, (404) 562-8809, Fax (404) 562-8788, akindele.femi@epa.gov.

SUPPLEMENTARY INFORMATION: For additional information, see the Direct Final Action which is located in the Rules section of this Federal Register.

Authority: 33 U.S.C. 1321(c)(2); 42 U.S.C. 9601-9657; E.O. 12777, 56 FR 54757, 3 CFR, 1991 Comp.; p. 351; E.O. 12580, 52 FR 2923, 3 CFR, 1987 Comp.; p. 193.

Dated: May 14, 2001.
A. Stanley Meiburg,
Acting Regional Administrator, U.S. EPA Region 4.

[FR Doc. 01-17558 Filed 7-13-01; 8:45 am]

BILLING CODE 6560-50-P